DEPARTMENT OF TRANSPORTATION

Federal Aviation Administration

Public Notice for Waiver of Aeronautical Land-Use Assurance, Gerald R. Ford International Airport, Grand Rapids, MI

AGENCY: Federal Aviation Administration, DOT.

ACTION: Notice of intent of waiver with respect to land; correction.

SUMMARY: This document contains one correction to a notice and request for comments that was published in the Federal Register on Monday, December 22, 2003 (68 FR 71219). Federal Register document 03-31418, published December 22, 2003 (68 FR 71219, concerns a proposal to change a portion of the airport from aeronautical use to non-aeronautical use and to authorize the sale of the airport property. The proposal consists of 3 parcels of land totaling approximately 16.33 acres. This correction revises the public comment period to read as follows:

DATES: Comments must be received on or before February 9, 2004.

All other information remains unchanged.

Issued in Romulus, Michigan on December 24, 2003.
Irene R. Porter,
Manager, Detroit Airports District Office, FAA, Great Lakes Region.

[FR Doc. 04-245 Filed 1-8-04; 8:45 am]

BILLING CODE 4910-73-M